BUREAU OF CONSUMER FINANCIAL PROTECTION

[Docket No CFPB-2020-0011]

Privacy Act of 1974; System of Records

AGENCY: Bureau of Consumer Financial Protection.

ACTION: Notice of a new system of records.

SUMMARY: In accordance with the Privacy Act of 1974, as amended, the Bureau of Consumer Financial Protection, hereinto referred to as the Consumer Financial Protection Bureau (Bureau), gives notice of the establishment of a Privacy Act System of Records. The Federal Document Management System (FDMS) provides the Bureau with the ability to electronically access and manage its rulemaking dockets and other dockets related to documents published in the Federal Register requesting public comment, including public comments or supporting materials and allows the public to find and review such materials on Regulations.gov.

DATES: Comments must be received no later than March 30, 2020. The new system of records will be effective on February 28, 2020, with the exception of the routine uses. The routine uses will not be effective until March 30, 2020, pending public comment.

ADDRESSES: You may submit comments, identified by Docket No. CFPB-2020-0011, by any of the following methods:

• Federal eRulemaking Portal: http://www.regulations.gov. Follow the instructions for submitting comments.

• Mail/Hand Delivery/Courier: Tannaz Haddadi, Acting Chief Privacy Officer, Consumer Financial Protection Bureau, 1700 G Street NW, Washington, DC 20552.

All submissions must include the agency name and docket number for this notice. In general, all comments received will be posted without change to http://www.regulations.gov. In addition, comments will be available for public inspection and copying at 1700 G Street NW, Washington, DC 20552 on official business days between the hours of 10 a.m. and 5 p.m. Eastern Time. You can make an appointment to inspect comments by telephoning (202) 435-9169. All comments, including attachments and other supporting materials, will become part of the public record and subject to public disclosure. You should submit only information that you wish to make available publicly.

FOR FURTHER INFORMATION CONTACT: Tannaz Haddadi, Acting Chief Privacy Officer, (202) 435-7058. If you require this document in an alternative electronic format, please contact CFPB_Accessibility@cfpb.gov.

SUPPLEMENTARY INFORMATION: The Dodd-Frank Wall Street Reform and Consumer Protection Act, Public Law 111-203, title X, established the Bureau. The Bureau will maintain the records covered by this notice. The system of records described in this notice, “CFPB.028—Federal Document Management System” will collect information to enable the Bureau to electronically access and manage its rulemaking dockets, or other dockets, related to documents published in the Federal Register requesting public comment, including public comments or supporting materials and allows the public to find and review such materials on Regulations.gov.

The report of a new system of records has been submitted to the Committee on Oversight and Reform of the House of Representatives, the Committee on Homeland Security and Governmental Affairs of the Senate, and the Office of Management and Budget, pursuant to OMB Circular A-108, “Federal Agency Responsibilities for Review, Reporting, and Publication under the Privacy Act” (December 23, 2016),¹ and the Privacy Act, 5 U.S.C. 552a(r).

¹ Although pursuant to section 1017(a)(4)(E) of the Consumer Financial Protection Act, Public Law 111-203, the Bureau is not required to comply with OMB-issued guidance, it voluntarily follows OMB privacy-related guidance as a best practice and to facilitate cooperation and collaboration with other agencies.

The system of records entitled “CFPB.028—Federal Docket Management System” is published in its entirety below.

SYSTEM NAME AND NUMBER:

CFPB.028—Federal Docket Management System.

SECURITY CLASSIFICATION:

This system does not contain any classified information or data.

SYSTEM LOCATION:

Primary location: Bureau of Consumer Financial Protection, 1700 G Street NW, Washington, DC 20552.

Third-Party Service Provider: General Services Administration, 1800 F Street NW, Washington, DC 20405.

SYSTEM MANAGER(S):

Associate Executive Secretariat, Bureau of Consumer Financial Protection, 1700 G Street NW, Washington, DC 20552; (202) 435-9169.

AUTHORITY FOR MAINTENANCE OF THE SYSTEM:

Public Law 111-203, title X, sections 1013, 1021, 1022, codified at 12 U.S.C. 5492, 5511, 5512.

PURPOSE(S) OF THE SYSTEM:

The purpose of this system of records is to maintain and organize comments submitted to the Bureau in response to Bureau documents published in the Federal Register requesting public comment. It permits the Bureau to identify submitters in order to potentially communicate with them as appropriate and necessary, such as seeking clarification, providing a direct response if warranted, or other such needs associated with a rulemaking or notice process. The system also provides the public with a central online location, via www.Regulations.gov, to search, view, download, and comment on Bureau documents published in the Federal Register requesting public comment and view other comments the Bureau may have received.

CATEGORIES OF INDIVIDUALS COVERED BY THE SYSTEM:

This system covers individuals who provide personal information while submitting a public comment, potentially including attachments, to a Bureau docket.

CATEGORIES OF RECORDS IN THE SYSTEM:

Information submitted by public comment may include full name, affiliated organization, postal address, email address, phone and fax number, and name of any individual serving as a representative for the individual submitting the comment.

RECORD SOURCE CATEGORIES:

Information in this system is posted by the Bureau or submitted by individuals and organizations who file public comments, including supporting materials, in response to Bureau documents published in the Federal Register requesting public comment.

ROUTINE USES OF RECORDS MAINTAINED IN THE SYSTEM, INCLUDING CATEGORIES OF USERS AND THE PURPOSES OF SUCH USES:

These records may be disclosed, consistent with the Bureau's Disclosure of Records and Information Rules, promulgated at 12 CFR part 1070, to:

(1) Appropriate agencies, entities, and persons when (a) the Bureau suspects or has confirmed that there has been a breach of the system of records; (b) the Bureau has determined that as a result of the suspected or confirmed breach there is a risk of harm to individuals, the Bureau (including its information systems, programs, and operations), the Federal Government, or national security; and (c) the disclosure made to such agencies, entities, and persons is reasonably necessary to assist in connection with the Bureau's efforts to respond to the suspected or confirmed breach or to prevent, minimize, or remedy such harm;

(2) Another Federal agency or Federal entity, when the Bureau determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach.

(3) Another Federal or State agency to: (a) Permit a decision as to access, amendment or correction of records to be made in consultation with or by that agency, or (b) verify the identity of an individual or the accuracy of information submitted by an individual who has requested access to or amendment or correction of records;

(4) The Office of the President in response to an inquiry from that office made at the request of the subject of a record or a third party on that person's behalf;

(5) Congressional offices in response to an inquiry made at the request of the individual to whom the record pertains;

(6) Contractors, agents, or other authorized individuals performing work on a contract, service, cooperative agreement, job, or other activity on behalf of the Bureau or Federal Government and who have a need to access the information in the performance of their duties or activities;

(7) The U.S. Department of Justice (DOJ) for its use in providing legal advice to the Bureau or in representing the Bureau in a proceeding before a court, adjudicative body, or other administrative body, where the use of such information by the DOJ is deemed by the Bureau to be relevant and necessary to the advice or proceeding, and in the case of a proceeding, such proceeding names as a party in interest:

(a) The Bureau;

(b) Any employee of the Bureau in his or her official capacity;

(c) Any employee of the Bureau in his or her individual capacity where DOJ has agreed to represent the employee; or

(d) The United States, where the Bureau determines that litigation is likely to affect the Bureau or any of its components;

(8) A grand jury pursuant either to a Federal or State grand jury subpoena, or to a prosecution request that such record be released for the purpose of its introduction to a grand jury, where the subpoena or request has been specifically approved by a court. In those cases where the Federal Government is not a party to the proceeding, records may be disclosed if a subpoena has been signed by a judge;

(9) A court, magistrate, or administrative tribunal in the course of an administrative proceeding or judicial proceeding, including disclosures to opposing counsel or witnesses (including expert witnesses) in the course of discovery or other pre-hearing exchanges of information, litigation, or settlement negotiations, where relevant or potentially relevant to a proceeding, or in connection with criminal law proceedings;

(10) Appropriate Federal, State, local, foreign, tribal, or self-regulatory organizations or agencies responsible for investigating, prosecuting, enforcing, implementing, issuing, or carrying out a statute, rule, regulation, order, policy, or license if the information may be relevant to a potential violation of civil or criminal law, rule, regulation, order, policy, or license;

(11) The public or certain stakeholders in the form of Bureau documents, including final rules or reports, that use, consider, or discuss comments received by the Bureau; or

(12) The General Services Administration (GSA) for its use in management of the e-Rulemaking Program.

POLICIES AND PRACTICES FOR STORAGE OF RECORDS:

Records are maintained in paper and electronic media.

POLICIES AND PRACTICES FOR RETRIEVAL OF RECORDS:

Records are retrievable by a variety of fields including, but not limited to, Name of the individual or entity submitting a comment or supporting material, Contact Information submitted in or as part of a comment, Agency, Docket Type, Docket Sub-Type, Agency Docket ID, Docket Title, Docket Category, Document Type, CFR Part, Date Comment Received, and Federal Register Published Date.

POLICIES AND PRACTICES FOR RETENTION AND DISPOSAL OF RECORDS:

Dockets are considered permanent records and transferred to the National Archives and Records Administration after fifteen years. Individual comments on rulemaking are temporary records that are destroyed after being uploaded into the FDMS and validated. Hard copies of comments that are mailed to the Bureau are transferred to an offsite location for destruction after they are scanned, uploaded to the FDMS, and validated.

ADMINISTRATIVE, TECHNICAL, AND PHYSICAL SAFEGUARDS:

Access to electronic records is restricted to authorized personnel who have been issued non-transferrable access codes and passwords. Hard copies of records received directly by the Bureau are properly safeguarded and maintained in controlled access storage on-site at the Bureau or at an offsite location before destruction.

RECORD ACCESS PROCEDURES:

An individual seeking access to any record pertaining to him or her contained in this system of records may inquire in writing in accordance with instructions in 12 CFR 1070.50 et seq. Address such requests to: Chief Privacy Officer, Bureau of Consumer Financial Protection, 1700 G Street NW, Washington, DC 20552. Instructions are also provided on the Bureau website: https://www.consumerfinance.gov/foia-requests/submit-request/.

CONTESTING RECORD PROCEDURES:

An individual seeking to contest the content of any record pertaining to him or her contained in this system of records may inquire in writing in accordance with instructions in 12 CFR 1070.50 et seq. Address such requests to: Chief Privacy Officer, Consumer Financial Protection Bureau, 1700 G Street NW, Washington, DC 20552.

NOTIFICATION PROCEDURES:

An individual seeking notification whether any record contained in this system of records pertains to him or her may inquire in writing in accordance with instructions in 12 CFR 1070.50 et seq. Address such requests to: Chief Privacy Officer, Consumer Financial Protection Bureau, 1700 G Street NW, Washington, DC 20552.

EXEMPTIONS PROMULGATED FOR THE SYSTEM:

None.

HISTORY:

This is a new system of records.

Dated: January 24, 2020.
Kate Fulton,
Senior Agency Official for Privacy, Bureau of Consumer Financial Protection.

[FR Doc. 2020-02629 Filed 2-27-20; 8:45 am]

BILLING CODE 4810-AM-P